DEPARTMENT OF ENERGY

[FE Docket No. 00-10-NG]

Office of Fossil Energy; RDO Foods Co.; Order Granting Long-Term Authorization To Import Natural Gas From Canada

AGENCY: Office of Fossil Energy, DOE.

ACTION: Notice of order.

SUMMARY: The Office of Fossil Energy (FE) of the Department of Energy (DOE) gives notice that it issued an Order granting RDO Foods Co. (RDO) authorization to import up to 1,423 Mcf of natural gas per day from Canada and gas required for pipeline transportation from April 1, 2000, through October 31, 2008. RDO is the owner and operator of a food processing plant in North Dakota. The natural gas will be imported near Noyes, Minnesota, under a supply arrangement between RDO and ProGas Limited.

The Order may be found on the FE web site at http://www.fe.doe.gov, or on our electronic bulletin board at (202) 586-7853. It is also available for inspection and copying in the Office of Natural Gas & Petroleum Import & Export Activities Docket Room, 3E-033, Forrestal Building, 1000 Independence Avenue, SW, Washington, DC 20585-0334, (202) 586-9478. The Docket Room is open between the hours of 8:00 am and 4:30 pm, Monday through Friday, except Federal holidays.

Issued in Washington, D.C., March 9, 2000.
John W. Glynn,
Manager, Natural Gas Regulation, Office of Natural Gas & Petroleum Import & Export Activities, Office of Fossil Energy.

[FR Doc. 00-6506 Filed 3-15-00; 8:45 am]

BILLING CODE 6450-01-P